DEPARTMENT OF ENERGY

Federal Energy Regulatory Commission

[Docket No. RP13-240-000]

Trailblazer Pipeline Company LLC; Notice of Technical Conference

The Commission's November 30, 2012 Order in the above-captioned proceeding ¹ directed that a technical conference be held to address issues raised by Trailblazer Pipeline Company LLC's proposal to establish a new Firm Transmission Balancing Service (FTB).

¹ Trailblazer Pipeline Company LLC, 141 FERC ¶ 61,175 (2012).

Take notice that a technical conference will be held on Thursday, January 31, 2013, at 10:00 a.m., in a room to be designated at the offices of the Federal Energy Regulatory Commission, 888 First Street NE., Washington, DC 20426.

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Andrew Knudsen at (202) 502-6527 or email Andrew.Knudsen@ferc.gov.

Dated: January 9, 2013.
Nathaniel J. Davis, Sr.,
Deputy Secretary.

[FR Doc. 2013-00629 Filed 1-14-13; 8:45 am]

BILLING CODE 6717-01-P